DEPARTMENT OF HEALTH AND HUMAN SERVICES

National Institutes of Health

Center for Scientific Review; Amended Notice of Meeting

Notice is hereby given of a change in the meeting of the Bacterial Pathogenesis Study Section, June 29, 2006, 8 a.m. to June 30, 2006, 1 p.m. St. Regis Hotel, 923 16th and K Street, NW., Washington, DC 20006 which was published in the Federal Register on May 31, 2006, 71 FR 30946-30948.

The meeting will be held at the St. Gregory Hotel and Suites, 2033 M Street, NW., Washington, DC 20036. The meeting dates and time remain the same. The meeting is closed to the public.

Dated: June 6, 2006.
Anna Snouffer,
Acting Director, Office of Federal Advisory Committee Policy.

[FR Doc. 06-5314 Filed 6-12-06; 8:45 am]

BILLING CODE 4140-01-M